DEPARTMENT OF TRANSPORTATION

Federal Aviation Administration

Sixty-Seventh Meeting: RTCA Special Committee (135) Environmental Conditions and Test Procedures for Airborne Equipment

AGENCY: Federal Aviation Administration (FAA), U.S. Department of Transportation (DOT).

ACTION: Notice of Sixty-Seventh RTCA Special Committee 135 Meeting.

SUMMARY: The FAA is issuing this notice to advise the public of the Sixty-Seventh RTCA Special Committee 135 meeting.

DATES: The meeting will be held March 29-31, 2016 from 9:00 a.m.-5:00 p.m.

ADDRESSES: The meeting will be held at Honeywell, PRN A Conference Rooms, 21111 N. 19th Avenue, Phoenix, AZ, 85027, Tel: (202) 330-0680.

FOR FURTHER INFORMATION CONTACT: The RTCA Secretariat, 1150 18th Street NW., Suite 910, Washington, DC, 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of RTCA Special Committee 135. The agenda will include the following:

Monday, March 29, 2016

1. AM Session: Ground Reference Fluctuations

2. PM Session: RF Susceptibility

Tuesday, March 30, 2016

1. AM Session: EMI; Vibration & Shock

2. PM Session: Power Inputs, Explosive, Waterproofness, Fluids, Salt Fog

Wednesday, March 31, 2016

1. Chairmen's Opening Remarks, Introductions

2. Approval of Summary from the Sixty-Sixth Meeting—(RTCA Paper No. 014-16/SC135-705)

3. Review Working Group Activities

4. Review Terms of Reference

5. Review DO-160G Errata Sheet

6. New/Unfinished Business

7. Establish date/locations for Next SC-135 Meetings

8. Closing and Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 4, 2016.
Latasha Robinson,
Management & Program Analyst, NextGen, Enterprise Support Services Division, Federal Aviation Administration.

[FR Doc. 2016-02561 Filed 2-8-16; 8:45 am]

BILLING CODE 4910-13-P